DEPARTMENT OF STATE

[Public Notice: 6087]

30-Day Notice of Proposed Information Collection: Land Border Crosser Survey (Passport Demand Study Phase II), OMB No.1405-0177, SV-2007-0021

ACTION: Notice of request for public comments and submission to OMB of proposed information collection.

SUMMARY: The Department of State has submitted the following information collection request to the Office of Management and Budget (OMB) for approval in accordance with the Paperwork Reduction Act of 1995.

• Title of Information Collection: Land Border Crosser Survey (Passport Demand Study Phase II)

• OMB Control Number: OMB No.1405-0177

• Type of Request: Extension of a Currently Approved Collection

• Originating Office: Bureau of Consular Affairs, Passport Services Office: CA/PPT

• Form Number: SV-2007-0021

• Respondents: A nationally representative sample of the United States land border crosser population

• Estimated Number of Respondents: 4,000 respondents per survey

• Estimated Number of Responses: 8,000 responses per year.

• Average Hours Per Response: 10 minutes

• Total Estimated Burden: 1,334 hours annually

• Frequency: Passport will conduct the land border survey semi-annually (twice per year).

• Obligation to Respond: Voluntary.

DATES: Submit comments to the Office of Management and Budget (OMB) for up to March 3, 2008.

ADDRESSES: Direct comments and questions to Katherine Astrich, the Department of State Desk Officer in the Office of Information and Regulatory Affairs at the Office of Management and Budget (OMB), who may be reached on 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974

FOR FURTHER INFORMATION CONTACT: Direct requests for additional information regarding the collection listed in this notice, including requests for copies of the proposed information collection and supporting documents, to Alan J. Swygert, 2100 Pennsylvania Ave., NW., SA-29, Room 3002, Washington, DC 20520, who may be reached on 202-663-2647 or at swygertaj@state.gov, or to Christine Grauer, 2100 Pennsylvania Ave., NW., SA-29, Room 3067, Washington, DC 20520, who may be reached on 202-663-2751 or at grauercl@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Section 7209 of the Intelligence Reform and Terrorism Prevention Act (IRTPA), enacted on December 17, 2004, requires the Secretary of Homeland Security (DHS), in consultation with the Secretary of State, to develop expeditiously, and implement a plan to require U.S. citizens and certain other categories of individuals to present a passport or other sufficient documentation of identity and citizenship when entering the U.S. This law has had significant effect on travel to Canada, Mexico, and the Caribbean.

Land border crossings represent the largest number of U.S. Visitor and Immigrant Status Indicator Technology (U.S. VISIT) Customs and Border Protection (CBP) inspections. Early data suggests that this population may have the greatest impact on passport demand. Given these new estimates for passport demand, CA/PPT is working to increase and manage its personnel and capital resources for the next several years. In support of these efforts, CA/PPT plans to conduct semi-annual Land Border Crosser Surveys. This additional gathering of data will provide the opportunity to refine volume and timing estimates of demand, and will help gauge public reaction to policy changes. Failure to prepare for this demand could result in delays in passport issuance and severely affect CA/PPT's ability to meet the public demand for passports.

Methodology:

Passport Services will conduct semi-annual National Land Border Crossers (LBC) Surveys. This will consist of repeat cross-sectional surveys that are nationally representative but focus specifically on land border crossers. Data collection will be conducted via RDD telephone interviews including 2,000 interviews to be completed for likely Canadian land border crossers and 2,000 interviews completed for likely Mexican land border crossers. These completed interviews will include residents of “high density” areas, or those within a close proximity to land border crossings, as well as some “low density” areas, captured by taking a much smaller sample.

Dated: January 25, 2008.
Betsey Anderson,
Acting Deputy Assistant Secretary, CA/PPT, Department of State.

[FR Doc. E8-1748 Filed 1-30-08; 8:45 am]

BILLING CODE 4710-06-P